DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the name of a person whose property and interests in property have been unblocked and who has been removed from the Specially Designated Nationals and Blocked Persons List (SDN List). OFAC is also publishing a removal of aircraft currently identified on OFAC's SDN List.

DATES: See SUPPLEMENTARY INFORMATION section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

A. On May 3, 2024, OFAC removed from the SDN List the person listed below, whose property and interests in property were blocked pursuant to section 1(a) of Executive Order 14024 of April 15, 2021, “Blocking Property With Respect To Specified Harmful Foreign Activities of the Government of the Russian Federation,” 86 FR 20249, 3 CFR, 2021 Comp., p. 542 (Apr. 15, 2021) (E.O. 14024). On May 3, 2024, OFAC determined that circumstances no longer warrant the inclusion of the following person on the SDN List under this authority. This person is no longer subject to the blocking provisions of section 1(a) of E.O. 14024.

1. EMPEROR AVIATION LTD (a.k.a. EMPEROR AVIEISHN LTD (Cyrillic: ЭМПЕРОР АВИЭЙШН ЛТД)), W Business Centre, Level 3, Triq Karmenu Pirotta, Birkirkara BKR 1114, Malta; Presnenskaya nab. 8/1, Moscow 123112, Russia; Organization Established Date 27 Nov 2013; Tax ID No. 21637116 (Malta); alt. Tax ID No. 9909425511 (Russia); Registration Number C 62836 (Malta) [RUSSIA-EO14024] (Linked To: KERIMOVA, Gulnara Suleymanovna).

B. On May 3, 2024, OFAC removed from the SDN List the aircraft listed below, which were subject to prohibitions imposed pursuant to E.O. 14024.

1. 9H-AMN; Aircraft Manufacture Date 2006; Aircraft Model BD-700-1A11; Aircraft Manufacturer's Serial Number (MSN) 9324; Aircraft Tail Number 9H-AMN (aircraft) [RUSSIA-EO14024] (Linked To: EMPEROR AVIATION LTD).

2. 9H-ARK; Aircraft Manufacture Date 2019; Aircraft Model BD-700-1A10; Aircraft Manufacturer's Serial Number (MSN) 60011; Aircraft Tail Number 9H-ARK (aircraft) [RUSSIA-EO14024] (Linked To: EMPEROR AVIATION LTD).

3. 9H-EAA; Aircraft Manufacture Date 2014; Aircraft Model Citation XLS+; Aircraft Manufacturer's Serial Number (MSN) 560-6170; Aircraft Tail Number 9H-EAA (aircraft) [RUSSIA-EO14024] (Linked To: EMPEROR AVIATION LTD).

4. 9H-MAO; Aircraft Manufacture Date 2006; Aircraft Model BD-700-1A10; Aircraft Manufacturer's Serial Number (MSN) 9223; Aircraft Tail Number 9H-MAO (aircraft) [RUSSIA-EO14024] (Linked To: EMPEROR AVIATION LTD).

5. 9H-SIS; Aircraft Manufacture Date 2015; Aircraft Model CL-600-2B16 (604 Variant); Aircraft Manufacturer's Serial Number (MSN) 6050; Aircraft Tail Number 9H-SIS (aircraft) [RUSSIA-EO14024] (Linked To: EMPEROR AVIATION LTD).

6. 9H-SSK; Aircraft Manufacture Date 2016; Aircraft Model G650; Aircraft Manufacturer's Serial Number (MSN) 6195; Aircraft Tail Number 9H-SSK (aircraft) [RUSSIA-EO14024] (Linked To: EMPEROR AVIATION LTD).

7. 9H-TIO; Aircraft Manufacture Date 2018; Aircraft Model BD-700-1A11; Aircraft Manufacturer's Serial Number (MSN) 9813; Aircraft Tail Number 9H-TIO (aircraft) [RUSSIA-EO14024] (Linked To: EMPEROR AVIATION LTD).

Dated: May 3, 2024.
Bradley T. Smith,
Director, Office of Foreign Assets Control, U.S. Department of the Treasury.

[FR Doc. 2024-10076 Filed 5-8-24; 8:45 am]

BILLING CODE 4810-AL-P